DEPARTMENT OF THE INTERIOR

National Park Service

[NPS-WASO-NAGPRA-NPS0037265; PPWOCRADN0-PCU00RP14.R50000]

Notice of Inventory Completion: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology, Harvard University (PMAE) has completed an inventory of human remains and has determined that there is no cultural affiliation between the human remains and any Indian Tribe. The human remains were removed from Suffolk County, NY.

DATES: Disposition of the human remains in this notice may occur on or after February 20, 2024.

ADDRESSES: Patricia Capone, Peabody Museum of Archaeology and Ethnology, 11 Divinity Avenue, Cambridge, MA 02138, telephone (617) 496-3702, email pcapone@fas.harvard.edu.

SUPPLEMENTARY INFORMATION: This notice is published as part of the National Park Service's administrative responsibilities under NAGPRA. The determinations in this notice are the sole responsibility of the PMAE. The National Park Service is not responsible for the determinations in this notice. Additional information on the determinations in this notice, including the results of consultation, can be found in the inventory or related records held by the PMAE.

Description

Human remains representing, at minimum, three individuals were removed from Suffolk County, NY. William Wallace Tooker collected these individuals, each represented by cranium, at an unknown date and sold them to the Brooklyn Museum in 1901. The Brooklyn Museum transferred these individuals to the PMAE as part of a permanent loan in 1938; the loan was converted to a gift in 1964. No associated funerary objects are present.

An inventory of the objects and human remains purchased from Tooker by the Brooklyn Museum indicates that Tooker collected three human crania from Long Island in three discrete locations: a grave in Sag Harbor, a grave in East Hampton in a Meeting House lot, and a grave in Nissequogue. All three localities are within Suffolk County on Long Island. The inventory indicates that the individual found in Sag Harbor was collected with a broken ceramic vessel from a “grave near Otter Pond Shell Heap.” The presence of a ceramic vessel dates the burial to the Woodland Period (post 1000 BC) or later. This vessel is not located at the PMAE and its location is unknown. The inventory also indicates that the individual from East Hampton was buried in 1662 and was excavated along with a glass bottle; the bottle is also not located at the PMAE and its location is unknown. The presence of a glass bottle indicates a post-Contact (post A.D. 1600) burial date for the East Hampton individual. No geographical, temporal, or associated object information is provided for the individual from Nissequogue. No funerary objects were transferred to the PMAE with the individual from Nissequogue.

Insufficient evidence is present to reassociate these three individuals with Tooker's original provenience information; consequently, their burial locations cannot be identified beyond Suffolk County, NY, and no temporal information for their interments can be established.

Aboriginal Land

The human remains in this notice were removed from known geographic locations. These locations are the aboriginal lands of one or more Indian Tribes. The following information was used to identify the aboriginal land: authoritative documents.

Determinations

Pursuant to NAGPRA and its implementing regulations, and after consultation with the appropriate Indian Tribes, the PMAE has determined that:

• The human remains described in this notice represent the physical remains of three individuals of Native American ancestry.

• No relationship of shared group identity can be reasonably traced between the human remains and any Indian Tribe.

• The human remains described in this notice were removed from the aboriginal land of the Shinnecock Indian Nation.

Requests for Disposition

Written requests for disposition of the human remains in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains described in this notice to a requestor may occur on or after February 20, 2024. If competing requests for disposition are received, the PMAE must determine the most appropriate requestor prior to disposition. Requests for joint disposition of the human remains are considered a single request and not competing requests. The PMAE is responsible for sending a copy of this notice to the Indian Tribes identified in this notice.

Authority: Native American Graves Protection and Repatriation Act, 25 U.S.C. 3003, and the implementing regulations, 43 CFR 10.9 and 10.11.

Dated: January 11, 2024.
Melanie O'Brien,
Manager, National NAGPRA Program.

[FR Doc. 2024-00833 Filed 1-17-24; 8:45 am]

BILLING CODE 4312-52-P